ENVIRONMENTAL PROTECTION AGENCY

[FRL-8540-6]

Science Advisory Board Staff Office; Notification of a Public Teleconference and Face-to-Face Meeting of the Drinking Water Committee

AGENCY: Environmental Protection Agency (EPA).

ACTION: Notice.

SUMMARY: The Environmental Protection Agency (EPA) Science Advisory Board (SAB) Staff Office announces two meetings of the SAB Drinking Water Committee (DWC): A public teleconference to discuss the Waterborne Diseases—Measures to Link Drinking Water Programs to Public Health Outcomes (Measures) and a face-to-face meeting to review Drinking Water Contaminant Candidate List 3 (CCL3) Draft document.

DATES: The SAB will hold the public teleconference on April 2, 2008. The teleconference will begin at 1 p.m. and end at 5 p.m. (Eastern Time). A face-to-face meeting will be held on April 23, 2008 from 9 a.m. to 5 p.m. (Eastern Time) and will continue on April 24, 2008 from 9 a.m. to 1 p.m. (Eastern Time).

ADDRESSES: The April 2, 2008 teleconference will be conducted by phone only. The April 23-24, 2008 face-to-face meeting will be held at the SAB Conference Center, 1025 F Street, NW., Suite 3700, Washington, DC 20004.

FOR FURTHER INFORMATION CONTACT: Any member of the public wishing to obtain general information concerning this public teleconference or meeting should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at: shallal.suhair@epa.gov. General information concerning the EPA Science Advisory Board can be found on the SAB Web Site at: http://www.epa.gov/sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. Pursuant to the Federal Advisory Committee Act, Public Law 92-463, notice is hereby given that the EPA SAB Drinking Water Committee will hold a public teleconference to provide a consultation on the Waterborne Diseases—Measures to Link Drinking Water Programs to Public Health Outcomes document and a face-to-face meeting to review its Draft Drinking Water Contaminant Candidate List 3 document.

Background: EPA's Office of Water has requested that the SAB conduct a consultation for its Waterborne Diseases—Measures to Link Drinking Water Programs to Public Health Outcomes (Measures) and review its Draft Drinking Water Contaminant Candidate List 3 (CCL3) document.

Measures—EPA's Office of Water (OW) produced a draft Measure Development Plan in October, 2004. The purpose of the plan is to develop long-term measures that describe changes over time of disease due to drinking water contamination or changes in the occurrence of indicators of waterborne disease. The objective of the measures is to demonstrate the effectiveness of drinking water programs on epidemic and endemic, acute and chronic disease related to microbes or other water contaminants. The SAB is being asked to comment on the effectiveness of this plan to produce outcome measures.

CCL3—The 1996 Safe Drinking Water Act amendments (SDWA) require EPA to (1) publish every five years a list of currently unregulated contaminants in drinking water that may pose risks (the Contaminant Candidate List or “CCL”), and (2) make determinations on whether or not to regulate at least five contaminants from that list on a staggered five year cycle. SDWA requires EPA to publish a new list of contaminants that are known or anticipated to occur in public water systems every five years. The first CCL (CCL1) was published or finalized on March 2, 1998 (63 FR 10273). CCL1 was developed based on the review by technical experts of readily available information and contained 50 chemicals and 10 microbial contaminants/groups. EPA consulted with the scientific community, including the Science Advisory Board, on a process for developing the first CCL. The second CCL (CCL2) was published on February 24, 2005 (70 FR 9071). CCL2 carried forward the remaining 51 chemical and microbial contaminants listed on CCL1. The Agency is evaluating data and research on these chemicals and microbes to make regulatory determinations on the contaminants listed CCL2. The draft CCL3 includes 93 chemicals or chemical groups and 11 microbiological contaminants. The EPA is seeking comment from the SAB DWC on the draft CCL3, the approach used to develop the list, and other specific contaminants.

Availability of Meeting Materials: The meeting agendas and other materials including a link to the Office of Water's draft Measures document will be posted on the SAB Web Site at: (http://www.epa.gov/sab) in advance of the meeting. The CCL3 draft can be found at: http://www.epa.gov/fedrgstr/EPA-WATER/2008/February/Day-21/w3114.pdf. For questions and information concerning the Agency's documents, please contact Ms. Valerie Blank for Measures at 202-564-1720 or blank.valerie@epa.gov. Please contact Mr. Thomas Carpenter for CCL3 at 202-564-4885 or carpenter.thomas@epa.gov.

Procedures for Providing Public Input: Interested members of the public may submit relevant written or oral information for the Drinking Water Committee to consider throughout the advisory process. Oral Statements: In general, individuals or groups requesting an oral presentation at a public SAB teleconference will be limited to three minutes per speaker, with no more than a total of one-half hour for all speakers. At the face-to-face meeting, presentations will be limited to five minutes, with no more than a total of one hour for all speakers. To be placed on the public speaker list, interested parties should contact Dr. Sue Shallal, DFO, in writing (preferably via e-mail), by March 26, 2008 for the teleconference and by April 16, 2008 for the face-to-face meeting, at the contact information noted above. Written Statements: Written statements should be received in the SAB Staff Office by March 26, 2008, so that the information may be made available to the SAB for their consideration prior to the teleconference or by April 16, 2008 for their consideration prior to the face-to-face meeting. Written statements should be supplied to the DFO via e-mail to shallal.suhair@epa.gov (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the meeting, to give EPA as much time as possible to process your request.

Dated: March 5, 2008.
Anthony F. Maciorowski,
Deputy Director, EPA Science Advisory Board Staff Office.

[FR Doc. E8-4828 Filed 3-10-08; 8:45 am]

BILLING CODE 6560-50-P